DEPARTMENT OF TRANSPORTATION

Federal Aviation Administration

14 CFR Part 39

[Docket No. 2000-NM-194-AD; Amendment 39-12065; AD 2000-26-15]

RIN 2120-AA64

Airworthiness Directives; McDonnell Douglas Model MD-11 Series Airplanes

AGENCY: Federal Aviation Administration, DOT.

ACTION: Final rule; request for comments.

SUMMARY: This amendment supersedes an existing airworthiness directive (AD), applicable to certain McDonnell Douglas Model MD-11 series airplanes, that currently requires deactivation of the map light assemblies; or modification and reidentification of the insulation blankets adjacent to certain map light assemblies, if applicable, a general visual inspection to detect damage of the Captain, First Officer, and Right Observer map light assemblies, and follow-on actions. This amendment is prompted by the FAA's determination that certain airplanes equipped with reading light assemblies in the crew rest area are subject to the identified unsafe condition. For certain airplanes, this amendment requires deactivation of the reading light assemblies, or an inspection to detect damage of the reading light assemblies, and follow-on or corrective actions, as applicable. The actions specified in this AD are intended to detect any broken light bulb housing, which could expose the power contactor. An exposed power contactor could cause the Captain, First Officer, or Right Observer map light or reading light in the crew rest area to short or overheat, which could result in smoke or fire in the cockpit.

DATES: Effective January 17, 2001.

The incorporation by reference of Boeing Alert Service Bulletin MD11-33A069, Revision 01, including Appendix, dated November 30, 2000, as listed in the regulations, is approved by the Director of the Federal Register as of January 17, 2001.

The incorporation by reference of McDonnell Douglas Alert Service Bulletin MD11-33A069, March 10, 2000, as listed in the regulations, was approved previously by the Director of the Federal Register as of April 20, 2000 (65 FR 17763, April 5, 2000).

Comments for inclusion in the Rules Docket must be received on or before March 5, 2001.

ADDRESSES: Submit comments in triplicate to the Federal Aviation Administration (FAA), Transport Airplane Directorate, ANM-114, Attention: Rules Docket No. 2000-NM-194-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2000-NM-194-AD” in the subject line and need not be submitted in triplicate. Comments sent via the Internet as attached electronic files must be formatted in Microsoft Word 97 for Windows or ASCII text.

The service information referenced in this AD may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Technical Specialist, Systems Safety and Integration, Systems and Equipment Branch, ANM-130L, FAA, Los Angeles Aircraft Certification Office, 3960 Paramount Boulevard, Lakewood, California 90712; telephone (562) 627-5350; fax (562) 627-5210.

SUPPLEMENTARY INFORMATION: On March 28, 2000, the FAA issued AD 2000-07-02, amendment 39-11656 (65 FR 17763, April 5, 2000), applicable to certain McDonnell Douglas Model MD-11 series airplanes, to require deactivation of the map light assemblies; or modification and reidentification of the insulation blankets adjacent to certain map light assemblies, if applicable, a general visual inspection to detect damage of the Captain, First Officer, and Right Observer map light assemblies, and follow-on actions. That action was prompted by incidents in which a broken or cracked light bulb housing of the First Officer map light was found. The actions required by that AD are intended to detect a broken light bulb housing, which could expose the power contactor. An exposed power contactor could cause the Captain, First Officer, or Right Observer map light to short or overheat, which could result in smoke or fire in the cockpit.

The incidents that prompted AD 2000-07-02 are not considered to be related to an accident that occurred off the coast of Nova Scotia involving a McDonnell Douglas Model MD-11 series airplane. The cause of that accident is still under investigation.

Other Related Rulemaking

The FAA, in conjunction with Boeing and operators of Model MD-11 series airplanes, is continuing to review all aspects of the service history of those airplanes to identify potential unsafe conditions and to take appropriate corrective actions. This AD is one of a series of actions identified during that process. The process is continuing and the FAA may consider additional rulemaking actions as further results of the review become available.

Actions Since Issuance of Previous Rule

Since the issuance of AD 2000-07-02, an investigation revealed that certain affected airplanes are equipped with Skybunk reading light assemblies in the crew rest area. Skybunk reading light assemblies are identical in design to the subject map light assemblies. An exposed power contactor due to a broken or cracked light bulb housing could cause the Captain, First Officer, or Right Observer map light or reading light in the crew rest area to short or overheat, which could result in smoke or fire in the cockpit or crew rest area.

Explanation of Relevant Service Bulletin

The FAA has review and approved Boeing Alert Service Bulletin MD11-33A069,

Revision 01, including Appendix, dated November 30, 2000. The procedures for deactivation of the map light assemblies; modification and reidentification of the insulation blankets adjacent to certain map light assemblies; a general visual inspection to detect damage of the Captain, First Officer, and Right Observer map light assemblies; and follow-on actions in Revision 01 of the service bulletin are identical to those described in the original issue of the service bulletin (which was referenced in AD 2000-07-02 as the appropriate source of service information). Revision 01 of the service bulletin also describes new procedures for:

1. Deactivating the reading light assemblies in the crew rest area, which includes disconnecting, coiling, and stowing the power wires to each reading light assembly; ensuring that deactivated reading lights do not illuminate; and installing an inop ring on the circuit breaker; OR

2. Performing an inspection to detect damage (i.e., cracks, damaged or broken components, or chafed or damaged reading light assembly wires) of the reading light assemblies in the crew rest area, and follow-on or corrective actions, as applicable. The follow-on actions include ensuring that the operative reading lights illuminate, and performing repetitive inspections of the reading light assemblies. The corrective actions include replacing the reading light assembly with a new or serviceable light assembly, ensuring that the deactivated reading lights do not illuminate, and repetitive inspections of the reading light assemblies; or deactivating the damaged reading light assemblies.

Operators should note that Revision 01 of the service bulletin incorrectly contains in “Option 2 (Deactivate Damaged Reading Light Assemblies),” paragraph F., page 22, of the Accomplishment Instructions a sentence that reads “Perform repetitive inspections of reading lights for damage per Compliance paragraph.” As indicated in the following sentence in that paragraph, repetitive inspections of a deactivated reading light are not required.

Explanation of Requirements of Rule

Since an unsafe condition has been identified that is likely to exist or develop on other airplanes of this same type design, this AD supersedes AD 2000-07-02 to continue to require deactivation of the map light assemblies; or modification and reidentification of the insulation blankets adjacent to certain map light assemblies, if applicable, a general visual inspection to detect damage of the Captain, First Officer, and Right Observer map light assemblies, and follow-on actions. This AD also requires accomplishment of the new actions specified in Boeing Alert Service Bulletin MD11-33A069, Revision 01, including Appendix, dated November 30, 2000, described previously.

Interim Action

This is considered to be interim action. The manufacturer has advised that it currently is developing a modification that will positively address the unsafe condition addressed by this AD. Once final action is identified, or once the modification is developed, approved, and available, the FAA may consider additional rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-194-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11656 (65 FR 17763, April 5, 2000), and by adding a new airworthiness directive (AD), amendment 39-12065, to read as follows:

2000-26-15—McDonnell Douglas: Amendment 39-12065. Docket 2000-NM-194-AD. Supersedes AD 2000-07-02, Amendment 39-11656.

Applicability: Model MD-11 series airplanes, as listed in McDonnell Douglas Alert Service Bulletin MD11-33A069, dated March 10, 2000, or Boeing Alert Service Bulletin MD11-33A069, Revision 01, dated November 30, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect an exposed power contactor, which could cause the Captain, First Officer, or Right Observer map light or reading light in the crew rest area to short or overheat and consequent smoke or fire in the cockpit or crew rest area, accomplish the following:

Restatement of Requirements of AD 2000-07-02

(a) For airplanes listed in McDonnell Douglas Alert Service Bulletin MD11-33A069, March 10, 2000: Within 30 days after April 20, 2000 (the effective date of AD 2000-07-02, amendment 39-11656), do the actions specified in either paragraph (a)(1), or (a)(2) or (a)(3) of this AD, as applicable, per McDonnell Douglas Alert Service Bulletin MD11-33A069, March 10, 2000, or Boeing Alert Service Bulletin MD11-33A069, Revision 01, dated November 30, 2000. As of the effective date of this AD, only Boeing Alert Service Bulletin MD11-33A069, Revision 01, including Appendix, dated November 30, 2000, shall be used.

Option 1 (Deactivate Map Light Assemblies)

(1) For Groups 1 and 2 airplanes identified in McDonnell Douglas Alert Service Bulletin MD11-33A069, March 10, 2000: Disconnect, coil, and stow power wires to each Captain, First Officer, and Right Observer map light assembly, until the requirements of paragraph (a)(2) or (a)(3) of this AD, as applicable, have been accomplished.

Note 2: Repetitive inspections of the deactivated map light assemblies are not required.

Option 2 (Inspect/Replace/Deactivate Map Light Assemblies)

(2) For Group 1 airplanes identified in McDonnell Douglas Alert Service Bulletin MD11-33A069, March 10, 2000: Modify and reidentify the insulation blankets adjacent to the Captain and First Officer map light assemblies; and do a general visual inspection to detect damage of the Captain, First Officer, and Right Observer map light assemblies.

Note 3: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(i) Condition 1 (No Damage Found). If no damage is detected, repeat the general visual inspection of the map light assemblies and adjacent insulation blankets required by paragraph (a)(2) of this AD thereafter every 700 flight hours.

(ii) Condition 2 (Damage Found). If any damage is detected, before further flight, do the actions specified in either paragraph (a)(2)(ii)(A) or (a)(2)(ii)(B) of this AD per the service bulletin.

(A) Option 1 (Replace Damaged Map Light Assemblies). Replace the map light assembly with a new or serviceable light assembly. Repeat the general visual inspection of the map light assemblies and adjacent insulation blankets required by paragraph (a)(2) of this AD thereafter every 700 flight hours.

(B) Option 2 (Deactivate Damaged Map Light Assemblies). Disconnect, coil, and stow power wires to each damaged Captain, First Officer, and Right Observer map light assembly, until the requirements of paragraph (a)(2)(ii)(A) of this AD have been done.

(3) For Group 2 airplanes identified in McDonnell Douglas Alert Service Bulletin MD11-33A069, March 10, 2000: Do a general visual inspection to detect damage of the Captain, First Officer, and Right Observer map light assemblies, and do the actions specified in either paragraph (a)(2)(i) or (a)(2)(ii) of this AD, as applicable, at the time(s) indicated in that paragraph.

Note 4: For Group 2 airplanes identified in McDonnell Douglas Alert Service Bulletin MD11-33A069, dated March 10, 2000: Modification and reidentification of the insulation blankets are not required. Prior to delivery of Group 2 airplanes, the insulation blankets were modified.

New Actions Required by This AD

(b) For Groups 3 and 4 airplanes, equipped with Skybunks, identified in Boeing Alert Service Bulletin MD11-33A069, Revision 01, dated November 30, 2000: Within 60 days after the effective date of this AD, do the actions specified in either paragraph (b)(1) or (b)(2), per Boeing Alert Service Bulletin MD11-33A069, Revision 01, including Appendix, dated November 30, 2000.

Option 1 (Deactivate Reading Light Assemblies)

(1) Disconnect, coil, and stow power wires to each reading light assembly, ensure that deactivated reading lights do not illuminate, and install an inop ring on the circuit breaker.

Note 5: Repetitive inspections of the deactivated reading light assemblies are not required.

Option 2 (Inspect/Replace/Deactivate Reading Light Assemblies-Skybunk)

(2) Do a general visual inspection to detect damage (i.e., cracks, damaged or broken components, or chafed or damaged reading light assembly wires) of the reading light assemblies.

Note 6: Where there are differences between the referenced service bulletin and the AD, the AD prevails.

(i) Condition 1 (No Damage Found). If no damage is detected, ensure that reading lights do illuminate, and repeat the general visual inspection of the reading light assemblies required by paragraph (b)(2) of this AD thereafter every 700 flight hours.

(ii) Condition 2 (Damage Found). If any damage is detected, before further flight, do the actions specified in either paragraph (b)(2)(ii)(A) or (b)(2)(ii)(B) of this AD in accordance with the service bulletin.

(A) Option 1 (Replace Damaged Reading Light Assemblies). Replace the reading light assembly with a new or serviceable light assembly, and ensure that the operative reading lights illuminate. Repeat the general visual inspection of the reading light assemblies required by paragraph (b)(2) of this AD thereafter every 700 flight hours.

(B) Option 2 (Deactivate Damaged Reading Light Assemblies). Disconnect, coil, and stow power wires to any damaged reading light assembly, and ensure that the deactivated reading lights do not illuminiate, until the requirements of paragraph (b)(2)(i)(A) have been done.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 7: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Alert Service Bulletin MD11-33A069, March 10, 2000, or Boeing Alert Service Bulletin MD11-33A069, Revision 01, including Appendix, dated November 30, 2000; as applicable.

(1) The incorporation by reference of Boeing Alert Service Bulletin

MD11-33A069, Revision 01, including Appendix, dated November 30, 2000, is approved by the Director of the Federal Register in accordance with 5 U.S.C. 552(a) and 1 CFR part 51.

(2) The incorporation by reference of McDonnell Douglas Alert Service Bulletin MD11-33A069, March 10, 2000, was approved previously by the Director of the Federal Register as of April 20, 2000 (65 FR 17763, April 5, 2000).

(3) Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on January 17, 2001.

Issued in Renton, Washington, on December 22, 2000.
John J. Hickey,
Manager, Transport Airplane Directorate, Aircraft Certification Service.

[FR Doc. 00-33336 Filed 12-29-00; 8:45 am]

BILLING CODE 4910-13-P